COMMODITY FUTURES TRADING COMMISSION

Agency Information Collection Activities Under OMB Review

AGENCY: Commodity Futures Trading Commission.

ACTION: Notice; Information Collection 3038-0019, Stocks of Grain in Licensed Warehouses.

SUMMARY: In compliance with the Paperwork Reduction Act (44 U.S.C. 3501 et seq.), this notice announces that the Information Collection Request (ICR) abstracted below has been forwarded to the Office of Management and Budget (OMB) for review and comment. The ICR describes the nature of the information collection and its expected costs and burden; it includes the actual data collection instruments [if any].

DATES: Comments must be submitted on or before March 29, 2007.

FOR FURTHER INFORMATION CONTACT: For Further Information or a Copy Contact: Gary Martinaitis at CFTC, (202) 418-5209; FAX: (202) 418-5527; e-mail: gmartinaitis@cftc.gov and refer to OMB Control No. 3038-0019.

SUPPLEMENTARY INFORMATION: Title: Stocks of Grain in Licensed Warehouses, OMB Control No. 3038-0019. This is a request for extension of a currently approved information collection.

Abstract: Under Commission Regulation 1.44, 17 CFR 1.44, contract markets must require operators of warehouses regular for delivery to keep records on stocks of commodities and make reports on call by the Commission. The regulation is designed to assist the Commission in prevention of market manipulation and is promulgated pursuant to the Commission's rulemaking authority contained in section 5a of the Commodity Exchange Act, 7 U.S.C. 7a.

An agency may not conduct or sponsor, and a person is not required to respond to, a collection of information unless it displays a currently valid OMB control number. The OMB control numbers for the CFTC's regulations were published on December 30, 1981. See 46 FR 63035 (Dec. 30, 1981). The Federal Register notice with a 60-day comment period soliciting comments on this collection of information was published on December 27, 2006 (71 FR 248).

Burden statement: The respondent burden for this collection is estimated to average 1 hour per response. This estimate includes the time needed to review instructions; develop, acquire, install, and utilize technology and systems for the purposes of collecting, validating, and verifying information, processing and maintaining information and disclosing and providing information; adjust the existing ways to comply with any previously applicable instructions and requirements; train personnel to be able to respond to a collection of information; and transmit or otherwise disclose the information.

Respondents/Affected Entities: 3.

Estimated number of responses: 156.

Estimated total annual burden on respondents: 156 hours.

Frequency of collection: Weekly.

Send comments regarding the burden estimated or any other aspect of the information collection, including suggestions for reducing the burden, to the addresses listed below. Please refer to OMB Control No. 3038-0019 in any correspondence.

Gary Martinaitis, Commodity Futures Trading Commission, 1155 21st Street, NW., Washington, DC 20581 and Office of Information and Regulatory Affairs, Office of Management and Budget, Attention: Desk Office for CFTC, 725 17th Street, Washington, DC 20503.

Issued in Washington, DC, on February 22, 2007.
Eileen A. Donovan,
Acting Secretary of the Commission.

[FR Doc. 07-879 Filed 2-26-07; 8:45 am]

BILLING CODE 6351-01-M